DEPARTMENT OF THE TREASURY

Alcohol and Tobacco Tax and Trade Bureau

Proposed Information Collections; Comment Request

AGENCY: Alcohol and Tobacco Tax and Trade Bureau (TTB), Treasury.

ACTION: Notice and request for comments.

SUMMARY: As part of our continuing effort to reduce paperwork and respondent burden, and as required by the Paperwork Reduction Act of 1995, we invite comments on the proposed or continuing information collections listed below in this notice.

DATES: We must receive your written comments on or before July 3, 2006.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form number, and OMB number (if any) in your comment. If you submit your comment via facsimile, send no more than five 8.5 x 11 inch pages in order to ensure electronic access to our equipment.

FOR FURTHER INFORMATION CONTACT: To obtain additional information, copies of the information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau, as part of their continuing effort to reduce paperwork and respondent burden, invite the general public and other Federal agencies to comment on the proposed and continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following information collections:

Title: Authorization to Furnish Financial Information and Certificate of Compliance.

OMB Number: 1513-0004.

TTB Form Number: 5030.6.

Abstract: The Right to Financial Privacy Act of 1978 limits access to records held by financial institutions and provides for certain procedures to gain access to the information. TTB F 5030.6 serves as both a customer authorization for TTB to receive information and as the required certification to the financial institution.

Current Actions: There are no changes to this information collection and it is being submitted for extension purposes only.

Type of Review: Extension.

Affected Public: Business or other for-profit.

Estimated Number of Respondents: 2,000.

Estimated Total Annual Burden Hours: 500.

Title: Application to Establish and Operate Wine Premises and Wine Bond.

OMB Number: 1513-0009.

TTB Form Numbers: 5120.25 and 5120.36.

Abstract: TTB F 5120.25 is the form used to establish the qualifications of an applicant applying to establish and operate wine premises. The applicant certifies the intention to produce and/or store a specified amount of wine and take certain precautions to protect it from unauthorized use. TTB F 5120.36, Wine Bond, is the form used by the proprietor and a surety company as a contract to ensure the payment of the wine excise tax.

Current Actions: There are changes to this information collection, and it is being submitted to revise a currently approved collection. Specifically, TTB is changing TTB F 5120.36, Wine Bond. We are adding several new fields to make this form suitable for collateral and surety bonds. Essentially, you will be providing the same information that we required before for each type of bond, but in addition, we have added a field for an Employer Identification Number (EIN), a Bond Category, a Bond Number, Collateral Type, and Treasury and cash information.

Type of Review: Revision of a currently approved collection.

Affected Public: Business or other for-profit.

Estimated Number of Respondents: 1,720.

Estimated Total Annual Burden Hours: 810.

Title: Bonded Wineries—Formula and Process for Wine, Letterhead Applications and Notices Relating to Formula Wine.

OMB Number: 1513-0010.

TTB Form Number: 5120.29.

Abstract: TTB F 5120.29 is used to determine the classification of wines for labeling and consumer protection. The form describes the person filing, type of product to be made, and restrictions to the labeling and manufacturing of wine. The form is also used to audit a product.

Current Actions: There are no changes to this information collection and it is being submitted for extension purposes only.

Type of Review: Extension.

Affected Public: Business or other for-profit.

Estimated Number of Respondents: 600.

Estimated Total Annual Burden Hours: 1,200.

Title: Power of Attorney.

OMB Number: 1513-0014.

TTB Form Number: 5000.8.

Abstract: TTB F 5000.8 delegates the authority to a specific individual to sign documents on behalf of an applicant or a principal. 26 U.S.C. 6061 authorizes that individuals signing returns, statements, or other documents required to be filed by industry members under the provisions of the Internal Revenue Code (IRC) or the Federal Alcohol Administration (FAA) Act are to have that authority on file with TTB.

Current Actions: There are changes to this information collection, and it is being submitted to revise a currently approved collection. Specifically, TTB is revising this information collection by deleting item 15C, Declaration, and adding a request for a phone number in items 3 and 6.

Type of Review: Revision of a currently approved collection.

Affected Public: Business or other for-profit.

Estimated Number of Respondents: 5,000.

Estimated Total Annual Burden Hours: 3,000.

Title: Application for an Industrial Alcohol User Permit and Industrial Alcohol Bond.

OMB Number: 1513-0028.

TTB Form Numbers: 5150.22 and 5150.25.

Abstract: TTB F 5150.22 is used to determine the eligibility of the applicant to engage in certain operations and the extent of the operations for the production and distribution of specially denatured spirits (alcohol/rum). This form identifies the location of the premises and establishes whether the premises will be in conformity with the Federal laws and regulations. TTB F 5150.25 provides notification that sufficient bond coverage has been obtained prior to the issuance of a permit.

Current Actions: There are changes to this information collection, and it is being submitted to revise a currently approved collection. We are deleting TTB F 5150.25, Industrial Alcohol Bond, from this information collection, which will reduce the burden hours. We no longer require an applicant to file an Industrial Alcohol Bond in order to obtain an Industrial Alcohol User Permit. Also, we are making minor changes to TTB F 5150.22, Application for an Industrial Alcohol User Permit, such as updating the contact information and correcting the burden hours in the Paperwork Reduction Act Notice statement on the form.

Type of Review: Revision of a currently approved collection.

Affected Public: Business or other for-profit.

Estimated Number of Respondents: 738.

Estimated Total Annual Burden Hours: 1,476.

Title: Distilled Spirits Records and Monthly Report of Production Operations.

OMB Number: 1513-0047.

TTB Form Number: 5110.40.

TTB Record Number: 5110/01.

Abstract: The information collected is used to account for proprietor's tax liability, adequacy of bond coverage and protection of the revenue. The information also provides data to analyze trends in the industry, and helps to plan efficient allocation of field resources, audit plant operations and compile statistics for government economic analysis.

Current Actions: There are no changes to this information collection and it is being submitted for extension purposes only.

Type of Review: Extension.

Affected Public: Business or other for-profit.

Estimated Number of Respondents: 150.

Estimated Total Annual Burden Hours: 3,600.

Title: Miscellaneous Requests and Notices for Distilled Spirits Plants.

OMB Number: 1513-0048.

TTB Form Number: 5110.41.

Abstract: The information provided by the applicants assists TTB in determining eligibility and provides for registration. These eligibility requirements are for persons who wish to establish distilled spirits plant operations. However, both statutes and regulations allow variances from regulations, and this information gives data to permit a variance.

Current Actions: There are no changes to this information collection and it is being submitted for extension purposes only.

Type of Review: Extension.

Affected Public: Business or other for-profit.

Estimated Number of Respondents: 328.

Estimated Total Annual Burden Hours: 1,620.

Title: Letterhead Applications and Notices Relating to Wine.

OMB Number: 1513-0057.

TTB Record Number: 5120/2.

Abstract: Letterhead applications and notices relating to wine are required to ensure that the intended activity will not jeopardize the revenue or defraud consumers.

Current Actions: There are no changes to this information collection and it is being submitted for extension purposes only.

Type of Review: Extension.

Affected Public: Business or other for-profit.

Estimated Number of Respondents: 1,650.

Estimated Total Annual Burden Hours: 825.

Title: Letterhead Applications and Notices Relating to Tax-Free Alcohol.

OMB Number: 1513-0060.

TTB Record Number: 5150/4.

Abstract: Tax-free alcohol is used for non-beverage purposes by educational organizations, hospitals, laboratories, etc., in scientific research and for medicinal purposes. Permits/Applications control the authorized uses and flow of tax-free alcohol. TTB Letterhead Applications and Notices are designed to protect tax revenue and public safety.

Current Actions: There are no changes to this information collection and it is being submitted for extension purposes only.

Type of Review: Extension.

Affected Public: Not-for-profit institutions, Federal, State, Local or Tribal governments.

Estimated Number of Respondents: 4,444.

Estimated Total Annual Burden Hours: 2,222.

Title: Stills—Notices, Registration, and Records.

OMB Number: 1513-0063.

TTB Record Number: 5150/8.

Abstract: This information collection is used to account for and regulate the distillation of distilled spirits to protect the revenue and to provide for identification of distillers.

Current Actions: There are no changes to this information collection and it is being submitted for extension purposes only.

Type of Review: Extension.

Affected Public: Business or other for-profit.

Estimated Number of Respondents: 10.

Estimated Total Annual Burden Hours: 21.

Title: Stills—Retail Liquor Dealers Records of Receipts of Alcoholic Beverages and Commercial Invoices.

OMB Number: 1513-0066.

TTB Record Number: 5170/3.

Abstract: The primary objective of this recordkeeping requirement is revenue protection, by making accountability data available for audit purposes. Another objective is consumer protection, by affording the subject record traceability of alcoholic beverages to the retail liquor dealer level of distribution in the event of defective products. The record retention requirement for this information collection is 3 years.

Current Actions: There are no changes to this information collection and it is being submitted for extension purposes only.

Type of Review: Extension.

Affected Public: Business or other for-profit and State, local or tribal government.

Estimated Number of Respondents: 455,000.

Estimated Total Annual Burden Hours: 455,000.

Title: Wholesale Dealers Applications, Letterheads, and Notices Relating to Operations. (Variations in Format or Preparation of Records).

OMB Number: 1513-0067.

TTB Record Number: 5170/6.

Abstract: This recordkeeping requirement pertains only to those wholesale liquor and beer dealers submitting applications for a variance from the regulations dealing with preparation, format, type, or place of retention of records of receipt or disposition for alcoholic beverages.

Current Actions: There are no changes to this information collection and it is being submitted for extension purposes only.

Type of Review: Extension.

Affected Public: Business or other for-profit.

Estimated Number of Respondents: 1,029.

Estimated Total Annual Burden Hours: 515.

Title: Airlines Withdrawing Stock from Customs Custody.

OMB Number: 1513-0074.

TTB Record Number: 5620/2.

Abstract: Airlines may withdraw tax exempt distilled spirits, wine and beer from Customs custody for foreign flights. The required record shows the amount of spirits and wine withdrawn, flight identification, and Customs certification. The record enables TTB to verify that tax is not due, allows spirits and wines to be traced, maintains accountability, and protects tax revenue. This collection of information is contained in 27 CFR 28.280 and 28.281.

Current Actions: There are no changes to this information collection and it is being submitted for extension purposes only.

Type of Review: Extension.

Affected Public: Business or other for-profit.

Estimated Number of Respondents: 25.

Estimated Total Annual Burden Hours: 2,500.

Title: Alcohol and Tobacco Tax and Trade Tax Returns, Claims and Related Documents.

OMB Number: 1513-0088.

TTB Record Number: 5000/24.

Abstract: TTB is responsible for the collection of the excise taxes on firearms, ammunition, distilled spirits, wine, beer, cigars, cigarettes, chewing tobacco, snuff, cigarette papers, tubes and pipe tobacco. Alcohol, tobacco, firearms, and ammunition excise taxes, plus alcohol, tobacco and firearms special occupational taxes are required to be collected on the basis of a return. 26 U.S.C. 5555 authorizes the Secretary of Treasury to prescribe the regulations requiring every person liable for tax to prepare any records, statements, or returns as necessary to protect the revenue.

Current Actions: There are no changes to this information collection and it is being submitted for extension purposes only.

Type of Review: Extension.

Affected Public: Business or other for-profit, Not-for-profit institutions and Individuals or households.

Estimated Number of Respondents: 503,921.

Estimated Total Annual Burden Hours: 503,921.

Title: Liquors and Articles from Puerto Rico or the Virgin Islands.

OMB Number: 1513-0089.

TTB Record Number: 5530/3.

Abstract: This information collection applies to persons bringing non-beverage products into the United States from Puerto Rico and the Virgin Islands. These recordkeeping requirements are for the verification of claims for drawback of distilled spirits excise tax paid on non-beverage products.

Current Actions: There are no changes to this information collection and it is being submitted for extension purposes only.

Type of Review: Extension.

Affected Public: Business or other for-profit.

Estimated Number of Respondents: 20.

Estimated Total Annual Burden Hours: 120.

Title: Notices Relating to Payment of Firearms and Ammunition Excise Tax.

OMB Number: 1513-0097.

TTB Form Number: None.

TTB Record Number: None.

Abstract: Excise taxes are collected on the sale or use of firearms and ammunition by firearms or ammunition manufacturers, importers, or producers. Taxpayers who elect to pay excise taxes by electronic fund transfer must furnish a written notice upon election and discontinuance. This notice protects the tax revenue.

Current Actions: There are no changes to this information collection and it is being submitted for extension purposes only.

Type of Review: Extension.

Affected Public: Business or other for-profit.

Estimated Number of Respondents: 10.

Estimated Total Annual Burden Hours: 1.

Title: Applications, Notices, and Permits Relating to Importation and Exportation of Distilled Spirits, Wine and Beer, Including Puerto Rico and Virgin Islands.

OMB Number: 1513-0100.

TTB Form Number: None.

TTB Record Number: None.

Abstract: Beverage alcohol, industrial alcohol, beer, and wine are taxed when imported. The taxes on these commodities coming from the Virgin Islands and Puerto Rico are largely returned to the two insular governments. Exports are mainly tax-free. These sections ensure that proper taxes are collected and returned according to law.

Current Actions: There are no changes to this information collection and it is being submitted for extension purposes only.

Type of Review: Extension.

Affected Public: Business or other for-profit.

Estimated Number of Respondents: 20.

Estimated Total Annual Burden Hours: 180.

Title: Information Collected in Support of Small Producer's Wine Tax Credit.

OMB Number: 1513-0104.

TTB Record Number: 5120/11.

Abstract: TTB is responsible for the collection of the excise tax on wines. Certain small wine producers are eligible for a credit which may be taken to reduce the tax they pay on wines removed from their own premises. The information is used by taxpayers in preparing their returns and by TTB to verify tax computation.

Current Actions: There are no changes to this information collection and it is being submitted for extension purposes only.

Type of Review: Extension.

Affected Public: Business or other for-profit.

Estimated Number of Respondents: 280.

Estimated Total Annual Burden Hours: 2,500.

Dated: April 25, 2006.
Francis W. Foote,
Director, Regulations and Rulings Division.

[FR Doc. E6-6542 Filed 5-1-06; 8:45 am]

BILLING CODE 4810-31-P